DEPARTMENT OF THE INTERIOR

National Park Service

[NPS-WASO-NRSS-SSB-FR00000042; PPWONRANDE2, PMP00E105.YP0000 (199); OMB Control Number 1024-0224]

Agency Information Collection Activities; Programmatic Clearance for NPS-Sponsored Public Surveys

AGENCY: National Park Service, Interior.

ACTION: Notice of information collection; request for comment.

SUMMARY: In accordance with the Paperwork Reduction Act of 1995, we, the National Park Service (NPS) are proposing to renew an information collection request (ICR) with revisions.

DATES: Interested persons are invited to submit comments on or before July 29, 2019.

ADDRESSES: Send your comments on this Information Collection Request (ICR) by mail to Phadrea Ponds, Acting NPS Information Collection Clearance Officer, 1201 Oakridge Drive, Fort Collins, CO 80525; or by email at phadrea_ponds@nps.gov; or by telephone at 970-267-7231. Please reference OMB Control Number 1024-0224 in the subject line of your comments.

FOR FURTHER INFORMATION CONTACT: To request additional information about this ICR, contact Bret Meldrum, Chief, Social Science Program National Park Service, 1201 Oakridge Drive, Fort Collins, CO 80525; or by email at bret_meldrum@nps.gov.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by the National Park Service Protection Interpretation and research in System (54 U.S.C. 100701) to collect this information. Since 1998, the NPS Social Science program has relied heavily on this generic approval to navigate the PRA process in an expedited manner. This process significantly streamlines the information collection requests to OMB in a manner that allows the NPS to submit at least 25 requests per year, which is four times as many as possible using the regular submission route. The Programmatic Clearance applies to all NPS social science collections (e.g., questionnaires, focus groups, interviews, etc.) designed to furnish usable information to NPS managers and planners concerning visitor experiences, perceptions of services, programs, and planning efforts in areas managed by the NPS. To qualify for the NPS generic programmatic review process each information request must show clear ties to NPS management and planning needs in areas managed by the NPS or involve research that will directly benefit the NPS. The scope of the programmatic review process is limited to issues that are non-controversial or unlikely to attract significant public interest. All collections must be reviewed by the NPS and approved by OMB before a collection is administered. At least 80% of the questions in an individual collection must be taken from the OMB approved Pool of Known Questions (PKQ). We acknowledge that the PKQ is not a comprehensive collection of all possible survey questions; therefore, we allow leeway for requestors to add park or research specific questions not in the PKQ. However all questions must fit within the scope of the approved Topic Areas. The Social Science Program will continue to conduct necessary quality control and will submit each information collection request to OMB for expedited review before the collection is administered.

Title of Collection: Programmatic Clearance for NPS-Sponsored Public Surveys.

OMB Control Number: 1024-0224.

Form Number: None.

Type of Review: Revision of a currently approved collection.

Respondents/Affected Public: Individuals/Households.

Total Estimated Number of Annual Respondents: 41,500.

Total Estimated Number of Annual Responses: 41,500.

Estimated Completion Time per Response: Response times will average 15 to 60 minutes. 15 minutes per mail back survey; 3 minutes per non response survey, 30 minutes per telephone survey; 60 minutes per focus group/interview 60 minutes; Other 15 minutes.

Total Estimated Number of Annual Burden Hours: 11,283.

Respondent's Obligation: Voluntary.

Frequency of Collection: On occasion.

Total Estimated Annual Nonhour Burden Cost: None.

| Annual number of responses | Estimated completion time per response (min) | Total annual burden hours
On-site Surveys | 20,000 | 15 | 5,000
Mail-back surveys | 10,000 | 20 | 3,333
All non-response surveys | 6,500 | 3 | 325
Telephone Surveys | 1,000 | 30 | 500
Focus Groups/In person interviews | 1,500 | 60 | 1,500
Other | 2,500 | 15 | 625
Total | 41,500 |  | 11,283

An agency may not conduct or sponsor and a person is not required to respond to a collection of information unless it displays a currently valid OMB control number.

The authority for this action is the Paperwork Reduction Act of 1995 (44 U.S.C. 3501 et seq.).

Phadrea D. Ponds,
Acting Information Collection Clearance Officer, National Park Service.

[FR Doc. 2019-11064 Filed 5-24-19; 8:45 am]

BILLING CODE 4312-52-P